DEPARTMENT OF HOUSING AND URBAN DEVELOPMENT

Office of the Secretary

[Docket No. FR-6399-D-01]

Revocation of Delegation of Concurrent Authority to the Associate Deputy Secretary

AGENCY: Office of the Secretary, HUD.

ACTION: Notice of revocation of delegation of concurrent authority.

SUMMARY: Through this notice, the Secretary of Housing and Urban Development hereby revokes all authority previously delegated to the Associate Deputy Secretary, including the delegation of concurrent authority published in the Federal Register on September 9, 2019.

DATES: This revocation of delegation of authority is effective June 20, 2023.

FOR FURTHER INFORMATION CONTACT: John B. Shumway, Assistant General Counsel for Administrative Law, Office of General Counsel, Department of Housing and Urban Development, Room 9244, 451 7th Street SW, Washington, DC 20410, telephone (202) 402-5190 (This is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

Section A. Authority Revoked

The Secretary of Housing and Urban Development hereby revokes all authority previously delegated to the Associate Deputy Secretary.

Section B. Authority Superseded

This revocation supersedes all previous delegations of authority to the Associate Deputy Secretary, including the Delegation of Concurrent Authority published in the Federal Register on September 9, 2019 (84 FR 47316).

Authority: Section 7(d), Department of Housing and Urban Development Act (42 U.S.C. 3535(d)).

Dated: June 21, 2023.
Marcia L. Fudge,
Secretary of Housing and Urban Development.

[FR Doc. 2023-13583 Filed 6-26-23; 8:45 am]

BILLING CODE P